FEDERAL RESERVE SYSTEM

Change in Bank Control Notices; Formations of, Acquisitions by, and Mergers of Bank Holding Companies; Correction

This notice corrects a notice (FR Doc. 78-FR 25084) published on pages 25084-25085 of the issue for Monday, April 29, 2013.

Under the Federal Reserve Bank of Kansas City heading, the entry for First Central Nebraska Co, Broken Bow, Nebraska is revised to read as follows:

A. Federal Reserve Bank of Kansas City (Dennis Denney, Assistant Vice President) 1 Memorial Drive, Kansas City, Missouri 64198-0001:

1. Gene R. Giles, Alliance, Nebraska, Sally J. Giles, Denver, Colorado, Randall D. Giles, San Diego, California, Nicholas G. Giles, Lincoln, Nebraska, and Lucas G. Giles, Lincoln, Nebraska, all of the Giles family group; the Bradley S. Norden Irrevocable Trust and the Brett A. Norden Irrevocable Trust, Brett A. Norden and Bradley S. Norden, as co-trustees of both trusts, all of Highlands Ranch, Colorado, and as members of the Norden family group; Cheryl L. Ryan, the Michael L. Ryan 2011 Irrevocable Trust and the Cheryl L. Ryan 2012 Irrevocable Trust, all of Minden, Nebraska, Jeffrey M. Ryan, Heartwell, Nebraska, and Jamie Johnson, Minden, Nebraska, as co-trustees of both trusts; and Walter D. Wood Revocable Trust, Walter D. Wood, trustee, both of Omaha, Nebraska, as part of the Ryan/Wood family group; to acquire voting shares of First Central Nebraska Co., and thereby indirectly acquire voting shares of Nebraska State Bank and Trust Company, both in Broken Bow, Nebraska.

Comments on this application must be received by May 23, 2012.

Board of Governors of the Federal Reserve System, May 3, 2012.
Margaret McCloskey Shanks,
Deputy Secretary of the Board.

[FR Doc. 2013-10922 Filed 5-7-13; 8:45 am]

BILLING CODE 6210-01-P